DEPARTMENT OF THE TREASURY

Office of Foreign Assets Control

31 CFR Parts 544 and 578

Publication of Cyber-Related Sanctions Regulations Web General License 1 and Subsequent Iterations

AGENCY: Office of Foreign Assets Control, Treasury.

ACTION: Publication of web general licenses.

SUMMARY: The Department of the Treasury's Office of Foreign Assets Control (OFAC) is publishing four general licenses (GLs) issued pursuant to the Cyber-Related, Non-Proliferation, and Hostages and Wrongfully Detained U.S. Nationals sanctions programs: GLs 1, 1A, 1B, and 1C, each of which was previously made available on OFAC's website.

DATES: GL 1 was issued on February 2, 2017. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 2, 2017, OFAC issued GL 1 to authorize certain transactions otherwise prohibited by E.O. 13694 of April 1, 2015, (“Blocking the Property of Certain Persons Engaging in Significant Malicious Cyber-Enabled Activities,” 80 FR 18077) as amended by E.O. 13757 of December 28, 2016 (“Taking Additional Steps to Address the National Emergency With Respect to Significant Malicious Cyber-Enabled Activities,” 82 FR 1). Subsequently, OFAC issued three further iterations of GL 1: On March 15, 2018, OFAC issued GL 1A, which superseded GL 1, to authorize certain transactions otherwise prohibited by E.O. 13694 and by Section 224 of the Countering America's Adversaries Through Sanctions Act (CAATSA, 22 U.S.C. 9524); on February 17, 2021, OFAC issued GL 1B, which superseded GL 1A, to authorize certain transactions otherwise prohibited by E.O. 13694, Section 224 of CAATSA, and the Weapons of Mass Destruction Proliferators Sanctions Regulations, 31 CFR part 544 (the WMDPSR); and on April 27, 2023, OFAC issued GL 1C, which superseded GL 1B, to authorize certain transactions otherwise prohibited by the Cyber-Related Sanctions Regulations, 31 CFR part 578 (the CRSR), the WMDPSR, and E.O. 14078 of July 19, 2022 (“Bolstering Efforts to Bring Hostages and Wrongfully Detained United States Nationals Home,” 87 FR 43389). OFAC incorporated E.O. 13694, E.O. 13757, and portions of CAATSA into the CRSR on September 6, 2022. Each GL was made available on OFAC's website (www.treas.gov/ofac) when it was issued. The text of these GLs is provided below.

OFFICE OF FOREIGN ASSETS CONTROL

Executive Order 13694 of April 1, 2015

Blocking the Property of Certain Persons Engaging in Significant Malicious Cyber-Enabled Activities

GENERAL LICENSE NO. 1

Authorizing Certain Transactions With the Federal Security Service

(a) Except as provided in paragraph (b), all transactions and activities otherwise prohibited pursuant to Executive Order (E.O.) 13694 of April 1, 2015 (“Blocking the Property of Certain Persons Engaging in Significant Malicious Cyber-Enabled Activities”), as amended by E.O. 13757 of December 28, 2016 (“Taking Additional Steps to Address the National Emergency With Respect to Significant Malicious Cyber-Enabled Activities”), are authorized that are necessary and ordinarily incident to:

(1) Requesting, receiving, utilizing, paying for, or dealing in licenses, permits, certifications, or notifications issued or registered by the Federal Security Service (a.k.a. Federalnaya Sluzhba Bezopasnosti) (a.k.a. FSB) for the importation, distribution, or use of information technology products in the Russian Federation, provided that (i) the exportation, reexportation, or provision of any goods or technology that are subject to the Export Administration Regulations, 15 CFR parts 730 through 774, is licensed or otherwise authorized by the Department of Commerce and (ii) the payment of any fees to the Federal Security Service for such licenses, permits, certifications, or notifications does not exceed $5,000 in any calendar year;

Note to paragraph (a)(l): Except for the limited purposes described in paragraph (a)(l), this paragraph does not authorize the exportation, reexportation, or provision of goods or technology to or on behalf of the Federal Security Service.

(2) Complying with law enforcement or administrative actions or investigations involving the Federal Security Service; and

(3) Complying with rules and regulations administered by the Federal Security Service.

(b) This general license does not authorize:

(1) The exportation, reexportation, or provision of any goods, technology, or services to the Crimea region of Ukraine; or

(2) The transfer of any property or debiting of any account blocked pursuant to any E.O. or statute, or 31 CFR chapter V, or any transactions or dealings otherwise prohibited by any E.O. other than E.O. 13694 as amended by E.O. 13757, or any other part of 31 CFR chapter V.

Andrea Gacki

Acting Director

Office of Foreign Assets Control

Dated: February 2, 2017

OFFICE OF FOREIGN ASSETS CONTROL

Executive Order 13694 of April 1, 2015

Blocking the Property of Certain Persons Engaging in Significant Malicious Cyber-Enabled Activities

Countering America's Adversaries Through Sanctions Act

Public Law 115-44, Aug. 2, 2017, 131 Stat. 886 (22 U.S.C. 9401 et seq.)

GENERAL LICENSE NO. 1A

Authorizing Certain Transactions With the Federal Security Service

(a) Except as provided in paragraph (b), all transactions and activities otherwise prohibited pursuant to Executive Order (E.O.) 13694 of April 1, 2015 (“Blocking the Property of Certain Persons Engaging in Significant Malicious Cyber-Enabled Activities”), as amended by E.O. 13757 of December 28, 2016 (“Taking Additional Steps to Address the National Emergency With Respect to Significant Malicious Cyber- Enabled Activities”), or Section 224 of the Countering America's Adversaries Through Sanctions Act, Public Law 115-44, Aug. 2, 2017, 131 Stat. 886 (22 U.S.C. 9401 et seq.) (CAATSA), are authorized that are necessary and ordinarily incident to:

(1) Requesting, receiving, utilizing, paying for, or dealing in licenses, permits, certifications, or notifications issued or registered by the Federal Security Service (a.k.a. Federalnaya Sluzhba Bezopasnosti) (a.k.a. FSB) for the importation, distribution, or use of information technology products in the Russian Federation, provided that (i) the exportation, reexportation, or provision of any goods or technology that are subject to the Export Administration Regulations, 15 CFR parts 730 through 774, is licensed or otherwise authorized by the Department of Commerce and (ii) the payment of any fees to the Federal Security Service for such licenses, permits, certifications, or notifications does not exceed $5,000 in any calendar year;

Note to paragraph (a)(1): Except for the limited purposes described in paragraph (a)(l), this paragraph does not authorize the exportation, reexportation, or provision of goods or technology to or on behalf of the Federal Security Service.

(2) Complying with law enforcement or administrative actions or investigations involving the Federal Security Service; and

(3) Complying with rules and regulations administered by the Federal Security Service.

(b) This general license does not authorize:

(1) The exportation, reexportation, or provision of any goods, technology, or services to the Crimea region of Ukraine; or

(2) The transfer of any property or debiting of any account blocked pursuant to any E.O. or statute, or 31 CFR chapter V, or any transactions or dealings otherwise prohibited by any E.O. other than E.O. 13694 as amended by E.O. 13757, any section of CAATSA other than Section 224, or any other part of 31 CFR chapter V.

(c) Effective March 15, 2018, General License No. 1, dated February 2, 2017, is replaced and superseded in its entirety by this General License No. 1A.

John E. Smith

Director

Office of Foreign Assets Control

Dated: March 15, 2018

OFFICE OF FOREIGN ASSETS CONTROL

Executive Order 13694 of April 1, 2015

Blocking the Property of Certain Persons Engaging in Significant Malicious Cyber-Enabled Activities, as Amended

Cyber-Related Sanctions Regulations

31 CFR Part 578

Weapons of Mass Destruction Proliferators Sanctions Regulations

31 CFR Part 544

Section 224 of the Countering America's Adversaries Through Sanctions Act

22 U.S.C. 9524

GENERAL LICENSE NO. 1B

Authorizing Certain Transactions With the Federal Security Service

(a) Except as provided in paragraph (b) of this general license, all transactions and activities prohibited by Executive Order (E.O.) 13694, as amended by E.O. 13757 of December 28, 2016, the Cyber-Related Sanctions Regulations, 31 CFR part 578 (CRSR), the Weapons of Mass Destruction Proliferators Sanctions Regulations, 31 CFR part 544 (WMDPSR), or Section 224 of the Countering America's Adversaries Through Sanctions Act (CAATSA) (22 U.S.C. 9524) involving the Federal Security Service (a.k.a. Federalnaya Sluzhba Bezopasnosti) (a.k.a. FSB) are authorized, provided that such transactions and activities are necessary and ordinarily incident to:

(1) Requesting, receiving, utilizing, paying for, or dealing in licenses, permits, certifications, or notifications issued or registered by the Federal Security Service for the importation, distribution, or use of information technology products in the Russian Federation, provided that (i) the exportation, reexportation, or provision of any goods or technology that are subject to the Export Administration Regulations, 15 CFR parts 730 through 774, is licensed or otherwise authorized by the Department of Commerce; and (ii) the payment of any fees to the Federal Security Service for such licenses, permits, certifications, or notifications does not exceed $5,000 in any calendar year;

Note to paragraph (a)(1): Except for the limited purposes described in paragraph (a)(1), this paragraph does not authorize the exportation, reexportation, or provision of goods or technology to or on behalf of the Federal Security Service.

(2) Complying with law enforcement or administrative actions or investigations involving the Federal Security Service; and

(3) Complying with rules and regulations administered by the Federal Security Service.

(b) This general license does not authorize:

(1) The exportation, reexportation, or provision of any goods, technology, or services to the Crimea region of Ukraine;

(2) The transfer of any property or debiting of any account blocked pursuant to any E.O., statute, or 31 CFR chapter V; or

(3) Any transactions or activities otherwise prohibited by the CRSR, the WMDPSR, or any other part of 31 CFR chapter V; any E.O. other than E.O. 13694, as amended by E.O. 13757; any statute other than Section 224 of CAATSA; or any transactions or activities with any blocked person other than the blocked person described in paragraph (a) of this general license.

(c) Effective March 2, 2021, General License No. 1A, dated March 15, 2018, is replaced and superseded in its entirety by this General License No. 1B.

Bradley T. Smith

Acting Director

Office of Foreign Assets Control

Dated: March 2, 2021

OFFICE OF FOREIGN ASSETS CONTROL

Cyber-Related Sanctions Regulations

31 CFR Part 578

Weapons of Mass Destruction Proliferators Sanctions Regulations

31 CFR Part 544

Executive Order 14078 of July 19, 2022

Bolstering Efforts To Bring Hostages and Wrongfully Detained United States Nationals Home

GENERAL LICENSE NO. 1C

Authorizing Certain Transactions With the Federal Security Service

(a) Except as provided in paragraph (b) of this general license, all transactions prohibited by the Cyber-Related Sanctions Regulations, 31 CFR part 578 (CRSR), the Weapons of Mass Destruction Proliferators Sanctions Regulations, 31 CFR part 544 (WMDPSR), or Executive Order (E.O.) 14078, involving the Federal Security Service (a.k.a. Federalnaya Sluzhba Bezopasnosti) (a.k.a. FSB) are authorized, provided that such transactions are ordinarily incident and necessary to:

(1) Requesting, receiving, utilizing, paying for, or dealing in licenses, permits, certifications, or notifications issued or registered by the Federal Security Service for the importation, distribution, or use of information technology products in the Russian Federation, provided that (i) the exportation, reexportation, or provision of any goods or technology that are subject to the Export Administration Regulations, 15 CFR parts 730 through 774, is licensed or otherwise authorized by the Department of Commerce; and (ii) the payment of any fees to the Federal Security Service for such licenses, permits, certifications, or notifications does not exceed $5,000 in any calendar year;

Note to paragraph (a)(1). Except for the limited purposes described in paragraph (a)(1), this paragraph does not authorize the exportation, reexportation, or provision of goods or technology to or on behalf of the Federal Security Service.

(2) Complying with law enforcement or administrative actions or investigations involving the Federal Security Service; or

(3) Complying with rules and regulations administered by the Federal Security Service.

(b) This general license does not authorize:

(1) The transfer of any property or debiting of any account blocked pursuant to any E.O., statute, or 31 CFR chapter V; or

(2) Any transactions otherwise prohibited by the CRSR, the WMDPSR, or E.O. 14078, including transactions with any blocked person other than the blocked person described in paragraph (a) of this general license, unless separately authorized.

(c) Effective April 27, 2023, General License No. 1B, dated February 17, 2021, is replaced and superseded in its entirety by this General License No. 1C.

Note 1 to General License No. 1C. See Russia-related General License No. 42 for an authorization for certain transactions with the Federal Security Service prohibited by E.O. 14024.

Note 2 to General License No. 1C. The exportation, reexportation, sale, or supply, directly or indirectly, from the United States, or by a United States person, wherever located, of any goods, services, or technology to the so-called “Donetsk People's Republic” or “Luhansk People's Republic” (DNR/LNR) regions of Ukraine, or such other regions of Ukraine as may be determined by the Secretary of the Treasury, in consultation with the Secretary of State, pursuant to E.O. 14065, or to the Crimea region of Ukraine remains prohibited pursuant to authorities implemented by the Ukraine-/Russia-Related Sanctions Regulations, 31 CFR part 589, among others.

Andrea M. Gacki

Director

Office of Foreign Assets Control

Dated: April 27, 2023.
Andrea M. Gacki,
Director, Office of Foreign Assets Control.

[FR Doc. 2023-11488 Filed 5-26-23; 8:45 am]

BILLING CODE 4810-AL-P